DEPARTMENT OF HOMELAND SECURITY

U.S. Citizenship and Immigration Services

[CIS No. 2765-24; DHS Docket No. USCIS-2021-0005]

RIN 1615-ZB88

Extension and Redesignation of Burma (Myanmar) for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Burma for Temporary Protected Status (TPS) for 18 months, beginning on May 26, 2024, and ending on November 25, 2025. This extension allows existing TPS beneficiaries to retain TPS through November 25, 2025, if they otherwise continue to meet the eligibility requirements for TPS. Existing TPS beneficiaries who wish to extend their status through November 25, 2025, must re-register during the 60-day re-registration period described in this notice. The Secretary is also redesignating Burma for TPS. The redesignation of Burma allows additional nationals of Burma (and individuals having no nationality who last habitually resided in Burma) who have been continuously residing in the United States since March 21, 2024, to apply for TPS for the first time during the initial registration period described under the redesignation information in this notice. In addition to demonstrating continuous residence in the United States since March 21, 2024, and meeting other eligibility criteria, initial applicants for TPS under this designation must demonstrate that they have been continuously physically present in the United States since May 26, 2024, the effective date of this redesignation of Burma for TPS.

DATES: Extension and Redesignation of the Designation of Burma for TPS begins on May 26, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Burma's TPS designation by selecting “Burma” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Burma for TPS: The 18-month designation of Burma for TPS begins on May 26, 2024, and will remain in effect for 18 months, ending on November 25, 2025. The extension affects existing beneficiaries of TPS.

Re-registration: The 60-day re-registration period for existing beneficiaries runs from March 25, 2024, through May 24, 2024. (Note: It is important for re-registrants to timely re-register during the re-registration period and not to wait until their Employment Authorization Document (EAD) expires, as delaying re-registration could result in gaps in their employment authorization documentation.)

Redesignation of Burma for TPS: The 18-month redesignation of Burma for TPS begins on May 26, 2024, and will remain in effect for 18 months, ending on November 25, 2025. The redesignation affects potential first-time applicants and others who do not currently have TPS.

First-time Registration: The initial registration period for new applicants to apply under the Burma TPS redesignation begins on March 25, 2024, and will remain in effect through November 25, 2025.

Purpose of This Action (TPS)

Through this notice, DHS sets forth procedures necessary for nationals of Burma (or individuals having no nationality who last habitually resided in Burma) to (1) re-register for TPS and apply to renew their EAD with USCIS or (2) submit an initial registration application under the redesignation and apply for an EAD.

Re-registration is limited to individuals who have previously registered for TPS under the prior designation of Burma and whose applications have been granted. If you do not re-register properly within the 60-day re-registration period, USCIS may withdraw your TPS following appropriate procedures. See 8 CFR 244.14.

For individuals who have already been granted TPS under Burma's designation, the 60-day re-registration period runs from March 25, 2024, through May 24, 2024. USCIS will issue new EADs with a November 25, 2025, expiration date to eligible TPS beneficiaries from Burma who timely re-register and apply for EADs. Given the time frames involved with processing TPS re-registration applications, DHS recognizes that not all re-registrants may receive a new EAD before their current EAD expires. Accordingly, through this Federal Register notice, DHS automatically extends through May 25, 2025, the validity of certain EADs previously issued under the TPS designation of Burma. As proof of continued employment authorization through May 25, 2025, TPS beneficiaries can show their EAD with the notation A-12 or C-19 under Category and a “Card Expires” date of May 25, 2024, or November 25, 2022. This notice explains how TPS beneficiaries and their employers may determine if an EAD is automatically extended and how this affects the Form I-9, Employment Eligibility Verification, E-Verify, and USCIS Systematic Alien Verification for Entitlements (SAVE) processes.

Individuals who have a Burma TPS application (Form I-821) or Application for Employment Authorization (Form I-765) that was still pending as of March 25, 2024, do not need to file either application again. If USCIS approves an individual's pending Form I-821, USCIS will grant the individual TPS through November 25, 2025. Similarly, if USCIS approves a pending TPS-related Form I-765, USCIS will issue the individual a new EAD that will be valid through the same date.

Under the redesignation, individuals who currently do not have TPS may submit an initial application during the initial registration period that runs from March 25, 2024, through the full length of the redesignation period ending November 25, 2025. In addition to demonstrating continuous residence in the United States since March 21, 2024, and meeting other eligibility criteria, initial applicants for TPS under this redesignation must demonstrate that they have been continuously physically present in the United States since May 26, 2024,¹ the effective date of this redesignation of Burma, before USCIS may grant them TPS. DHS estimates that approximately 7,300 individuals may become newly eligible for TPS under the redesignation of Burma.

¹ The “continuous physical presence” date is the effective date of the most recent TPS designation of the country, which is either the publication date of the designation announcement in the Federal Register or a later date established by the Secretary. The “continuous residence” date is any date established by the Secretary when a country is designated (or sometimes redesignated) for TPS. See INA sec. 244(b)(2)(A) (effective date of designation); 244(c)(1)(A)(i-ii) (continuous residence and continuous physical presence date requirements); 8 U.S.C. 1254a(b)(2)(A); 1254a(c)(1)(A)(i-ii).

What Is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date their TPS terminates.

When was Burma designated for TPS?

Burma was originally designated for TPS on May 25, 2021, on the basis of extraordinary and temporary conditions that prevented nationals of Burma from returning in safety.² On September 27, 2022, DHS extended and redesignated Burma for TPS for 18 months based on extraordinary and temporary conditions, from November 26, 2022, to May 25, 2024.³

² See Designation of Burma (Myanmar) for Temporary Protected Status, 86 FR 28132 (May 25, 2021).

³ See Extension and Redesignation of Burma (Myanmar) for Temporary Protected Status, 87 FR 58515 (Sept. 27, 2022).

What authority does the Secretary have to extend the designation of Burma for TPS?

Section 244(b)(1) of the INA, 8 U.S.C. 1254a(b)(1), authorizes the Secretary, after consultation with appropriate agencies of the U.S. Government, to designate a foreign state (or part thereof) for TPS if the Secretary determines that certain country conditions exist.⁴ The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

⁴ INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Burma for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present since the effective date of the most recent designation of the state”) (emphasis added).⁵

⁵ The extension and redesignation of TPS for Burma is one of several instances in which the Secretary and, before the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Burma will be March 21, 2024. Initial applicants for TPS under this redesignation must also show they have been “continuously physically present” in the United States since May 26, 2024, which is the effective date of the Secretary's redesignation of Burma. See INA sec. 244(c)(1)(A)(i), 8 U.S.C. 1254a(c)(1)(A)(i). For each initial TPS application filed under the redesignation, USCIS cannot make the final determination of whether the applicant has met the “continuous physical presence” requirement until May 26, 2024, the effective date of this redesignation for Burma.

USCIS, however, will issue employment authorization documentation, as appropriate, during the registration period in accordance with 8 CFR 244.5(b).

Why is the Secretary extending the TPS designation for Burma and simultaneously redesignating Burma for TPS through November 25, 2025?

DHS has reviewed country conditions in Burma. Based on the review, including input received from Department of State (DoS) and other U.S. Government agencies, the Secretary has determined that an 18-month TPS extension is warranted because extraordinary and temporary conditions supporting Burma's TPS designation remain. The Secretary has further determined that redesignating Burma for TPS under INA section 244(b)(3)(C), 8 U.S.C. 1254a(b)(3)(C) is warranted and is changing the continuous residence and continuous physical presence dates that applicants must meet to be eligible for TPS.

Overview

The February 1, 2021, military coup that overthrew Burma's democratically elected civilian government gave rise to further widespread violence that continues to put persons in Burma at significant risk. Attacks killing civilians are frequent, and particularly affect members of certain ethnic groups. Human trafficking perpetrated by both the military regime and criminal actors is prevalent. Burma also faces challenges in the provision of food, access to health care, and economic stability.

Ongoing Violence

Violence stemming from the coup has affected an estimated 315 of Burma's 330 townships.⁶ Those harmed include supporters of the opposition National Unity Government (NUG), pro-democracy People's Defense Forces (PDFs), Ethnic Resistance Organizations (EROs), and civilians perceived to oppose the military regime. Since the coup began, the regime has reportedly killed more than 4,000 people.⁷

⁶ Myanmar's junta suffers startling defeats, The Economist, Nov. 16, 2023, available at https://www.economist.com/asia/2023/11/16/myanmars-junta-suffers-startling-defeats (last visited Nov. 24, 2023).

⁷ Daily Briefing in Relation to the Military Coup, Assistance Association for Political Prisoners, Dec. 4, 2023, available at https://aappb.org/?lang=en (last visited Dec. 4, 2023).

The military-appointed State Administration Council reportedly has adopted the “four cuts” strategy—which relies on airstrikes and shelling, razing of entire villages, and denial of humanitarian access—to sever resistance groups from food, finances, intelligence, recruits, and popular support.⁸ Observers attest that due to “continued armed and unarmed resistance to the coup it set in motion two years ago, [Burma's military] has increasingly resorted to targeting civilians as it fails to consolidate control over the country.” ⁹ A monitoring mechanism established to collect evidence of serious violations of international law has tracked a “marked increase” in the use of bombs against civilians.¹⁰ Further, the regime's security forces are commonly reported to have committed disappearances, excessive use of force, gender-based violence, and other abuses, with some PDF and ERO groups accused of similar abuses.¹¹

⁸ The Unfolding Humanitarian Crisis in Myanmar, The Diplomat, Sep. 30, 2023, available at https://thediplomat.com/2023/09/the-unfolding-humanitarian-crisis-in-myanmar/ (last visited Dec. 5, 2023); Military's `four cuts' doctrine drives perpetual human rights crisis in Myanmar, says UN report, Office of the High Commissioner for Human Rights, Mar. 3, 2023, available at https://www.ohchr.org/en/press-releases/2023/03/militarys-four-cuts-doctrine-drives-perpetual-human-rights-crisis-myanmar (last visited Dec. 5, 2023).

⁹ Armed Conflict Location and Event Database, Myanmar: Continued Opposition to the Junta Amid Increasing Civilian Targeting by the Military, Feb. 8, 2023, available at: https://acleddata.com/conflict-watchlist-2023/myanmar/ (last visited Feb. 6, 2024).

¹⁰ Rebecca Tan and Cape Diamond, Myanmar's military said it bombed “terrorists.” It killed children., The Washington Post, Aug. 4, 2023, available at https://www.washingtonpost.com/world/2023/08/04/myanmar-military-attack-civilians-children/ (last visited Feb. 6, 2024).

¹¹ U.S. Dep't of State, 2022 Country Reports on Human Rights Practices: Burma, Mar. 20, 2023, available at https://www.state.gov/reports/2022-country-reports-on-human-rights-practices/burma/ (last visited Feb. 6, 2024).

The regime has unleashed brutal violence against PDFs, including the use of beheadings and bodily mutilation to terrorize the opposition.¹² It reportedly has also used ultranationalist, pro-military armed groups to collect information on opponents, spread propaganda, destroy property, and engage in violent tactics as a means of “psychological warfare” against people in Burma, with the goal of “terrorizing civilians into submission.” ¹³

¹² “Ogre” battalion uses brutality to install terror in Myanmar, Radio Free Asia, Apr. 22, 2023, available at https://www.rfa.org/english/news/myanmar/ogre-04192023150057.html (last visited Feb. 6, 2024).

¹³ The Rise of Pyy Saw Htee, Mar. 12, 2022, available at https://progressivevoicemyanmar.org/2022/03/12/the-rising-of-pyu-saw-htee/ (last visited Feb. 7, 2024).

This violence has disproportionately affected certain ethnic groups. Members of Karen and Karenni ethnic groups in eastern Burma reportedly are particularly targeted with violence due to their longstanding history of political awareness and resistance.¹⁴ Residents of Chin State, home to the ethnic Chin minority, have been displaced in large numbers since the coup, with approximately 50,000 residents having crossed into India and more than 48,000 internally displaced.¹⁵ Rohingya continue to suffer mistreatment; even before the coup, the military promoted discriminatory policies and rhetoric toward Rohingya and excluded them from citizenship, political life, and vital services,¹⁶ with the United States assessing that members of Burma's military have committed genocide and crimes against humanity against them.¹⁷

¹⁴ Myanmar's `forgotten people' bear the brunt of war, Nikkei Asia, Mar. 31, 2023, available at https://asia.nikkei.com/Life-Arts/Life/Myanmar-s-forgotten-people-bear-brunt-of-war (last visited Nov. 27, 2023).

¹⁵ Myanmar Emergency Overview Map, U.N. High Commission for Refugees (UNHCR), Nov. 7, 2023, available at https://www.ecoi.net/en/file/local/2100306/231106+Myanmar+displacement+overview.pdf.

¹⁶ Myanmar Authorities Must Ensure Full Legal Recognition of the Right to Citizenship of All Rohingya People, Deputy High Commissioner tells Human Rights Council—Council Concludes Interactive Dialogue with the High Commissioner on his Annual Report, June 21, 2023, available at https://www.ohchr.org/en/news/2023/06/myanmar-authorities-must-ensure-full-legal-recognition-right-citizenship-all-rohingya (last visited Nov. 27, 2023).

¹⁷ U.S. Dep't of State, Genocide, Crimes Against Humanity and Ethnic Cleansing of Rohingya in Burma, available at https://www.state.gov/burma-genocide/ (last visited Dec. 4, 2023).

From May 24, 2022, to November 7, 2023, the number of persons in Burma displaced internally due to the effects of the coup grew from an estimated 694,300 people to an estimated 1,710,200, an increase of 146%.¹⁸ In the same period, the number of persons displaced from Burma to neighboring countries increased from an estimated 40,200 people to an estimated 54,900, a rise of 37%.¹⁹ In light of recent fighting that has caused further displacement, the total number of displaced persons is now thought to have reached 2.6 million.²⁰

¹⁸ Myanmar Emergency Overview Map, UNHCR, Nov. 7, 2023, available at https://www.ecoi.net/en/file/local/2100306/231106+Myanmar+displacement+overview.pdf; Myanmar Emergency Overview Map, UNHCR, May 24, 2022, available at https://www.ecoi.net/en/file/local/2073589/220523+Myanmar+displacement+overview.pdf.

¹⁹ Myanmar Emergency Overview Map, UNHCR, Nov. 7, 2023, available at https://www.ecoi.net/en/file/local/2100306/231106+Myanmar+displacement+overview.pdf; Myanmar Emergency Overview Map, UNHCR, May 24, 2022, available at https://www.ecoi.net/en/file/local/2073589/220523+Myanmar+displacement+overview.pdf.

²⁰ Myanmar: Intensification of Clashes Flash Update #10, U.N. Office for the Coordination of Humanitarian Affairs (UNOCHA), Dec. 15, 2023, available at https://reliefweb.int/report/myanmar/myanmar-intensification-clashes-flash-update-10-15-december-2023-enmy (last visited Jan. 11, 2024).

Human Trafficking

The military reportedly has forcibly used and recruited adults and children—including through abduction and threats of death—in various military support roles and as human shields, and also uses children in combat roles.²¹ Armed groups fighting against the military of Burma have been accused of forced recruitment or use as well.²²

²¹ U.S. Dep't of State, 2023 Trafficking in Persons Report: Burma, June 15, 2023, available at https://www.state.gov/reports/2023-trafficking-in-persons-report/burma/#:~:text=Burma%20does%20not%20fully%20meet,Burma%20remained%20on%20Tier%203 (last visited Nov. 28, 2023).

²² Pay, Flee or Pay to Avoid Forced Military Conscription, Karen News, Dec. 10, 2022, available at https://karennews.org/2022/12/pay-flee-or-pay-to-avoid-forced-military-conscription/ (last visited Nov. 27, 2023).

The regime relies on human trafficking to profit from international scams, with reports of “one particularly sinister enclave” in which “as many as 10,000 people are enslaved[,] . . . tortured or, according to some accounts, threatened with having their organs harvested if they fail to generate adequate revenue from operating scams.” ²³ Sources estimate that at least 120,000 people across the country may be held in situations where traffickers exploit them in forced criminality to carry out online scams.²⁴ Further, criminal industries relying on human trafficking have moved to Burma from elsewhere in southeast Asia, with Burma having “emerged as the preferred location for criminal groups to base their trafficking and scam operations,” as “revenue from organized crime via corrupt border guard forces has become a key pillar of [Burma's army's] survival strategy.” ²⁵ Some EROs are also allegedly complicit in large-scale forced labor in forced criminality of migrant workers in scam centers, and are alleged to use physical and sexual violence to compel the migrants.²⁶

²³ Myanmar's Criminal Zones: A Growing Threat to Global Security, U.S. Institute of Peace, Nov. 9, 2022, available at https://www.usip.org/publications/2022/11/myanmars-criminal-zones-growing-threat-global-security (last visited Nov. 28, 2022).

²⁴ Online Scam Operations and Trafficking into Forced Criminality in Southeast Asia: Recommendations for a Human Rights Response, U.N. Office of the High Commissioner for Human Rights, Aug. 25, 2023, available at https://bangkok.ohchr.org/wp-content/uploads/2023/08/ONLINE-SCAM-OPERATIONS-2582023.pdf (last visited Nov. 28, 2023).

²⁵ Myanmar's Criminal Zones: A Growing Threat to Global Security, U.S. Institute of Peace, Nov. 9, 2022, available at https://www.usip.org/publications/2022/11/myanmars-criminal-zones-growing-threat-global-security (last visited Nov. 28, 2022).

²⁶ U.S. Dep't of State, 2023 Trafficking in Persons Report: Burma, June 15, 2023, available at https://www.state.gov/reports/2023-trafficking-in-persons-report/burma/#:~:text=Burma%20does%20not%20fully%20meet,Burma% 20remained%20on%20Tier%203 (last visited Nov. 28, 2023).

Humanitarian Needs

Around 12.9 million people in Burma are considered to be either moderately or severely food insecure.²⁷ Rising food prices and reduced incomes have worsened food security and nutrition.²⁸ At mid-year, the United Nations assessed that its nutrition aid had reached only 17% of the children targeted for assistance related to severe acute malnutrition in 2023.²⁹ Administrative and physical restrictions have delayed or forced the cancellation of humanitarian aid deliveries more broadly.³⁰

²⁷ Myanmar Humanitarian Update No. 34, UNOCHA, Nov. 10, 2023, available at https://reliefweb.int/report/myanmar/myanmar-humanitarian-update-no-34-10-november-2023 (last visited Nov. 28, 2023).

²⁸ The World Bank, Myanmar Economic Monitor June 2023: A fragile recovery. Key Findings, June 27, 2023, available at https://www.worldbank.org/en/country/myanmar/publication/myanmar-economic-monitor-june-2023-a-fragile-recovery-key-findings (last visited Nov. 29, 2023).

²⁹ Humanitarian Response Plan: Myanmar-Mid-year Report 2023, UNOCHA, Oct. 2023, available at https://myanmar.un.org/sites/default/files/2023-10/MMR%20HRP%20MID-YEAR%20REPORT%20”2023_0.pdf (last visited Nov. 28, 2023).

³⁰ Myanmar Humanitarian Update No. 34, UNOCHA, Nov. 10, 2023, available at https://reliefweb.int/report/myanmar/myanmar-humanitarian-update-no-34-10-november-2023 (last visited Nov. 28, 2023).

Reports indicate that “health care infrastructures have all but collapsed,” partly due to many health care providers participating in civil disobedience movements among public sector workers aimed at undermining the military's control.³¹ Additionally, health care providers have been arrested on suspicion of supporting resistance forces and hospitals have been damaged by military attacks.³²

³¹ Wei-Ti Chen et al, Infrastructure collapsed, health care access disrupted, Myanmar people with chronic diseases are in danger, Journal of Global Health, Jan. 2023, available at https://jogh.org/wp-content/uploads/2023/01/jogh-13-03002.pdf; Progressive Voice, Civil Disobedience Movement: A Foundation of Myanmar's Spring Revolution and Force Behind Military's Failed Coup, May 25, 2023, available at https://progressivevoicemyanmar.org/2023/05/25/civil-disobedience-movement-a-foundation-of-myanmars-spring-revolution-and-force-behind-militarys-failed-coup/(last visited Nov. 22, 2023).

³² Attacks on Health Care in Myanmar, Insecurity Insight, Mar. 14, 2023, available at https://reliefweb.int/report/myanmar/attacks-health-care-myanmar-22-february-07-march-2023 (last visited Nov. 28, 2023).

Economic conditions in Burma, which have deteriorated in part due to conflict, have worsened the humanitarian crisis.³³ Burma's economy experienced a sharp contraction in 2021 and, while it is beginning to recover, remains at pre-pandemic levels, with conflict-related factors continuing to inhibit growth.³⁴ Inflation in 2023 declined slightly but remained high, above 14%.³⁵

³³ The Unfolding Humanitarian Crisis in Myanmar, The Diplomat, Sep. 30, 2023, available at https://thediplomat.com/2023/09/the-unfolding-humanitarian-crisis-in-myanmar/ (last visited Nov. 29, 2023).

³⁴ Myanmar economy to remain `severely diminished' amid conflict—World Bank, Reuters, Mar. 30, 20203, available at https://www.reuters.com/markets/asia/myanmar-economy-remain-severely-diminished-amid-conflict-world-bank-2023-03-31/#:~:text=The%20World%20Bank%20said%20Myanmar's,according%20to%20the%20World%20Bank (last visited Nov. 29, 2023).

³⁵ Myanmar: Inflation rate from 2008 to 2023, Statista, Oct. 2023, available at https://www.statista.com/statistics/525770/inflation-rate-in-myanmar/ (last visited Nov. 29, 2023).

Based on this review and after consultation with appropriate U.S. Government agencies, the Secretary has determined that:

• The conditions supporting Burma's designation for TPS continue to be met. See INA sec. 244(b)(3)(A) and (C), 8 U.S.C. 1254a(b)(3)(A) and (C).

• There continue to be extraordinary and temporary conditions in Burma that prevent nationals of Burma (or individuals having no nationality who last habitually resided in Burma) from returning to Burma in safety, and it is not contrary to the national interest of the United States to permit TPS beneficiaries from Burma to remain in the United States temporarily. See INA sec. 244(b)(1)(C), 8 U.S.C. 1254a(b)(1)(C).

• The designation of Burma for TPS should be extended for an 18-month period, beginning on May 26, 2024, and ending on November 25, 2025. See INA sec. 244(b)(3)(C), 8 U.S.C. 1254a(b)(3)(C).

• Due to the conditions described above, Burma should be simultaneously extended and redesignated for TPS beginning on May 26, 2024, and ending on November 25, 2025. See INA sec. 244(b)(1)(C) and (b)(2), 8 U.S.C. 1254a(b)(1)(C) and (b)(2).

• For the redesignation, the Secretary has determined that TPS applicants must demonstrate that they have continuously resided in the United States since March 21, 2024.

• Initial TPS applicants under the redesignation must demonstrate that they have been continuously physically present in the United States since May 26, 2024, the effective date of the redesignation of Burma for TPS.

• There are approximately 2,300 current Burma TPS beneficiaries who are eligible to re-register for TPS under the extension.

• It is estimated that approximately 7,300 additional individuals may be eligible for TPS under the redesignation of Burma. This population includes nationals of Burma in the United States in nonimmigrant status or without immigration status.

Notice of the Designation of Burma for TPS

By the authority vested in me as Secretary under INA section 244, 8 U.S.C. 1254a, I have determined, after consultation with the appropriate U.S. Government agencies, the statutory conditions supporting Burma's designation for TPS on the basis of extraordinary and temporary conditions are met and it is not contrary to the national interest of the United States to allow TPS beneficiaries from Burma to remain in the United States temporarily. See INA sec. 244(b)(1)(C), U.S.C. 1254a(b)(1)(C). On the basis of this determination, I am simultaneously extending the existing designation of Burma for TPS for 18 months, beginning on May 26, 2024, and ending on November 25, 2025, and redesignating Burma for TPS for the same 18-month period. See INA sec. 244(b)(1)(C) and (b)(2); 8 U.S.C. 1254a(b)(1)(C) and (b)(2).

Alejandro N. Mayorkas,
Secretary, U.S. Department of Homeland Security.

Eligibility and Employment Authorization for TPS

Required Application Forms and Application Fees To Register or Re-Register for TPS

To register or re-register for TPS based on the designation of Burma, you must submit a Form I-821. If you are submitting an initial TPS application, you must pay the application fee for Form I-821 (or request a fee waiver, which you may submit on Form I-912, Request for Fee Waiver). If you are filing an application to re-register for TPS, you do not need to pay the application fee. Whether you are registering as an initial applicant or re-registering, you may be required to pay the biometric services fee. If you can demonstrate an inability to pay the biometric services fee, you may request to have the fee waived. Please see additional information under the “Biometric Services Fee” section of this notice.

TPS beneficiaries are eligible for an Employment Authorization Document (EAD), which proves their authorization to work in the United States. You are not required to submit Form I-765 or have an EAD to be granted TPS, but see below for more information if you want an EAD to use as proof that you can work in the United States.

Individuals who have a Burma TPS application (Form I-821) that was still pending as of March 25, 2024, do not need to file the application again. If USCIS approves an individual's Form I-821, USCIS will grant the individual TPS through November 25, 2025.

For more information on the application forms and fees for TPS, please visit the USCIS TPS web page at https://www.uscis.gov/tps. Fees for the Form I-821, the Form I-765, and biometric services are also described in 8 CFR 103.7(b)(1) (Oct. 1, 2020).³⁶ In addition, USCIS Form G-1055, Fee Schedule, provides the current fees required for the Form I-821 and Form I-765 for both initial TPS applicants and existing TPS beneficiaries who are re-registering.

³⁶ On January 31, 2024, DHS published a final rule that adjusts certain fees and moves the description of the fees for the Form I-821 and Form I-765 and the biometric services fee to 8 CFR 106.2 and the fee waiver-related regulations to 8 CFR 106.3. U.S. Citizenship and Immigration Services Fee Schedule and Changes to Certain Other Immigration Benefit Request Requirements, 89 FR 6194 (Jan. 31, 2024) (effective Apr. 1, 2024). Additional information about the rule is available on the USCIS website. Frequently Asked Questions on the USCIS Fee Rule, USCIS, https://www.uscis.gov/forms/filing-fees/frequently-asked-questions-on-the-uscis-fee-rule (last visited Feb. 7, 2024).

How can TPS beneficiaries obtain an Employment Authorization Document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved. Beneficiaries with a Burma TPS-related Form I-765 that was still pending as of March 25, 2024, do not need to file the application again. If USCIS approves a pending TPS-related Form I-765, USCIS will issue the individual a new EAD that will be valid through November 25, 2025.

Refiling an Initial TPS Registration Application After Receiving a Denial of a Fee Waiver Request

If USCIS denies your fee waiver request, you can resubmit your TPS application. The fee waiver denial notice will contain specific instructions about resubmitting your application.

Filing Information

You may file Form I-821 and related requests for EADs online or by mail. However, if you request a fee waiver, you must submit your application by mail. When filing a TPS application, you may request an EAD by submitting a completed Form I-765 with your Form I-821.

Online filing: Form I-821 and Form I-765 are available for concurrent filing online.³⁷ To file these forms online, you must first create a USCIS online account.³⁸

³⁷ Find information about online filing at “Forms Available to File Online,” https://www.uscis.gov/file-online/forms-available-to-file-online.

³⁸ https://myaccount.uscis.gov/users/sign_up.

Mail filing: Mail your completed Form I-821; Form I-765, if applicable; Form I-912, if applicable; and supporting documentation to the proper address in Table 1—Mailing Addresses.

Table 1—Mailing Addresses
If you are . . . | Mail to . . .
Using the U.S. Postal Service (USPS) | USCIS, Attn: TPS Burma, P.O. Box 6943, Chicago, IL 60680-6943.
Using FedEx, UPS, or DHL | USCIS, Attn: TPS Burma (Box 6943), 131 South Dearborn Street, 3rd Floor, Chicago, IL 60603-5517.

If you were granted TPS by an immigration judge (IJ) or the Board of Immigration Appeals (BIA) and you wish to request an EAD, please file online or mail your Form I-765 to the appropriate address in table 1. If you file online, please include the fee. If you file by mail, please include the fee or fee waiver request. When you request an EAD based on an IJ or BIA grant of TPS, please include with your application a copy of the order from the IJ or BIA granting you TPS. This will help us verify your grant of TPS and process your application.

Supporting Documents

The filing instructions for Form I-821 list all the documents you need to establish eligibility for TPS. You may also find information on the acceptable documentation and other requirements for applying (also called registering) for TPS on the USCIS website at https://www.uscis.gov/tps under “Burma.”

Travel

TPS beneficiaries may also apply for and be granted travel authorization as a matter of discretion. You must file for travel authorization if you wish to travel outside of the United States. If USCIS grants travel authorization, it gives you permission to leave the United States and return during a specific period. To request travel authorization, you must file Form I-131, Application for Travel Document, available at https://www.uscis.gov/i-131. You may file Form I-131 together with your Form I-821 or separately. When you file Form I-131, you must:

• Select Item Number 1.d. in Part 2 on the Form I-131; and

• Submit the fee for Form I-131, or request a fee waiver, which you may submit on Form I-912.

If you are filing Form I-131 together with Form I-821, send your forms to the address listed in Table 1. If you are filing Form I-131 separately based on a pending or approved Form I-821, send your form to the address listed in table 2 and include a copy of Form I-797 for your approved or pending Form I-821.

Table 2—Mailing Addresses
If you are . . . | Mail to . . .
Filing Form I-131 together with a Form I-821 | The address provided in Table 1.
Filing Form I-131 based on a pending or approved Form I-821, and you are using the U.S. Postal Service (USPS): You must include a copy of the Notice of Action (Form I-797C or I-797) showing USCIS accepted or approved your Form I-821 | USCIS, Attn: I-131 TPS, P.O. Box 660167, Dallas, TX 75266-0867.
Filing Form I-131 based on a pending or approved Form I-821, and you are using FedEx, UPS, or DHL: You must include a copy of the Notice of Action (Form I-797C or I-797) showing USCIS accepted or approved your Form I-821 | USCIS, Attn: I-131 TPS, 2501 S State Hwy. 121 Business, Ste. 400, Lewisville, TX 75067.

Biometric Services Fee for TPS

Biometrics (such as fingerprints) are required for all applicants age 14 years or older. Those applicants must submit a biometric services fee. As previously stated, if you cannot pay the biometric services fee, you may request a fee waiver, which you may submit on Form I-912. For more information on the application forms and fees for TPS, please visit the USCIS TPS web page at https://www.uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If your Form I-765 has been pending for more than 90 days, and you still need assistance, you may ask a question about your case online at https://egov.uscis.gov/e-request/Intro.do or call the USCIS Contact Center at 800-375-5283 (TTY 800-767-1833).

Am I eligible to receive an automatic extension of my current EAD through May 25, 2025, through this Federal Register notice?

Yes. Regardless of your country of birth, if you currently have a Burma TPS-based EAD with the notation A-12 or C-19 under Category and a “Card Expires” date of May 25, 2024, or November 25, 2022, this Federal Register notice automatically extends your EAD through May 25, 2025. Although this Federal Register notice automatically extends your EAD through May 25, 2025, you must timely re-register for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information. If your EAD states A-12 or C-19 under Category and has a Card Expires date of May 25, 2024, or November 25, 2022, this Federal Register notice extends it automatically, and you may choose to present your EAD to your employer as proof of identity and employment eligibility for Form I-9 through May 25, 2025, unless your TPS has been withdrawn or your request for TPS has been denied. Your country of birth noted on the EAD does not have to reflect the TPS-designated country of Burma for you to be eligible for this extension.

What documentation may I present to my employer for Form I-9 if I am already employed but my current TPS-related EAD is set to expire?

Even though we have automatically extended your EAD, your employer is required by law to ask you about your continued employment authorization. Your employer may need to re-examine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information. You may show this Federal Register notice to your employer to explain what to do for Form I-9 and to show that USCIS has automatically extended your EAD through May 25, 2025, but you are not required to do so. The last day of the automatic EAD extension is May 25, 2025. Before you start work on May 26, 2025, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, even if you already have an EAD or work authorization based on another immigration status. If you want to obtain a new TPS-based EAD valid through November 25, 2025, you must file Form I-765 and pay the associated fee (unless USCIS grants your fee waiver request).

Can my employer require that I provide any other documentation to complete Form I-9, such as evidence of my status, proof of my Burma citizenship, or a Form I-797C showing that I registered for TPS?

No. When completing Form I-9, employers must accept any documentation you choose to present from the Form I-9 Lists of Acceptable Documents that reasonably appears to be genuine and that relates to you, or an acceptable List A, List B, or List C receipt. Employers may not request other documentation, such as proof of Burma citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before May 26, 2025:

1. For Section 1, you should:

a. Check “A noncitizen authorized to work until” and enter May 25, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A-12 or C-19 and has a “Card Expires” date of May 25, 2024, or November 25, 2022;

b. Write in the document title;

c. Enter the issuing authority;

d. Provide the document number; and

e. Write May 25, 2025, as the expiration date.

Before the start of work on May 26, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A-12 or C-19 and has a “Card Expires” date of May 25, 2024, or November 25, 2022. Your employer may not rely on the country of birth listed on the card to determine whether you are eligible for this extension.

If your employer determines that USCIS has automatically extended your EAD, they should update Section 2 of your previously completed Form I-9 as follows:

1. Write EAD EXT and May 25, 2025, as the last day of the automatic extension in the Additional Information field; and

2. Initial and date the correction.

Note: This is not considered a reverification. Employers do not reverify the employee until either the automatic extension has ended, or the employee presents a new document to show continued employment authorization, whichever is sooner. By May 26, 2025, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter May 25, 2025, as the expiration date for an EAD that has been extended under this Federal Register notice.

If I am an employer enrolled in E-Verify, what do I do when I receive a “Work Authorization Documents Expiring” alert for an automatically extended EAD?

E-Verify automated the verification process for TPS-related EADs that are automatically extended. If you have an employee who provided a TPS-related EAD when they first started working for you, you will receive a “Work Authorization Documents Expiring” case alert when the auto-extension period for this EAD is about to expire. Before this employee starts work on May 26, 2025, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in the Form I-9 Instructions. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each State may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A-12 or C-19, even if your country of birth noted on the EAD does not reflect the TPS-designated country of Burma;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some State and local government agencies use SAVE to confirm the current immigration status of applicants for public benefits. While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://save.uscis.gov/casecheck/. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save, has detailed information on how to correct or update your immigration record, make an appointment, or submit a written request to correct records.

[FR Doc. 2024-06104 Filed 3-22-24; 8:45 am]

BILLING CODE 9111-97-P